DEPARTMENT OF ENERGY

Federal Energy Regulatory Commission

[Project No. 1888-027]

York Haven Power Company, LLC; Notice of Cancellation of Dispute Resolution Panel Meeting and Technical Conference

June 11, 2010.

The technical conference scheduled for Monday, June 14, 2010, from 1 p.m. to 5 p.m. at the Holiday Inn and Conference Center in New Cumberland, PA is cancelled. On June 11, 2010, the Pennsylvania Department of Environmental Protection withdrew its notice of study dispute filed on April 29, 2010. The technical meeting is cancelled in response to the withdrawal of the study dispute. The three-person Dispute Resolution Panel (Panel) formed pursuant to 18 CFR 5.14(d) on May 19, 2010, Commission staff, in response to the filing of a notice of study dispute is disbanded.

Kimberly D. Bose,
Secretary.

[FR Doc. 2010-14942 Filed 6-18-10; 8:45 am]

BILLING CODE 6717-01-P